FEDERAL COMMUNICATIONS COMMISSION

47 CFR Part 73

[DA 03-3227; MB Docket No. 03-223, RM-10813]

Radio Broadcasting Services; Greenville, LaGrange, and Waverly Hall, GA

AGENCY: Federal Communications Commission.

ACTION: Proposed rule.

SUMMARY: The Audio Division requests comments on a petition jointly filed by Cox Radio, Inc., its wholly-owned subsidiary CXR Holdings, Inc., and Davis Broadcasting, Inc., of Columbus, proposing the downgrade of Channel 239C3 to Channel 239A at Greenville, Georgia, the reallotment of Channel 239A to Waverly Hall, Georgia, and the modification of Station WKZJ(FM)'s license accordingly; and the reallotment Channel 281C1 from LaGrange to Greenville, Georgia, as a replacement service, and the modification of Station WALR-FM's license accordingly. Channel 239 can be reallotted to Waverly Hall in compliance with the Commission's minimum distance separation requirements with a site restriction of 14 kilometers (8.7 miles) south at petitioners' requested site. The coordinates for Channel 239A at Waverly Hall are 32-33-58 North Latitude and 84-41-03 West Longitude. See supplementary information, infra.

DATES: Comments must be filed on or before December 15, 2003, reply comments on or before December 30, 2003.

ADDRESSES: Federal Communications Commission, Washington, DC 20554. In addition to filing comments with the FCC, interested parties should serve the petitioner, or its counsel or consultant, as follows: Kevin F. Reed, Esq. Dow, Lohnes & Albertson, PLLC, 1200 New Hampshire Ave. NW., Suite 800, 200006-1809 (Counsel for Cox Radio & CXR Holdings, Inc.); and Howard A. Topel, Esq., Leventhal, Senter & Lerman, PLLC, 2000 K Street, NW., Suite 600, Washington, DC 20036-1809 (Counsel for Davis Broadcasting, of Columbus).

FOR FURTHER INFORMATION CONTACT: Sharon P. McDonald, Media Bureau, (202) 418-2180.

SUPPLEMENTARY INFORMATION: This is a synopsis of the Commission's Notice of Proposed Rule Making, MB Docket No. 03-223, adopted October 22, 2003, and released October 24, 2003. The full text of this Commission decision is available for inspection and copying during normal business hours in the FCC Reference Information Center (Room CY-A257), 445 12th Street, SW., Washington, DC. The complete text of this decision may also be purchased from the Commission's copy contractor, Qualex International, Portals, II, 445 12th Street, SW., Room CY-B402, Washington, DC 20054, telephone (202) 863-2893, facsimile (202) 863-2898, or via e-mail qualexint@aol.com.

Likewise, Channel 281C1 can be reallotted to Greenville at Station WALR-FM's presently authorized site. The coordinates for Channel 281C1 at Greenville are 33-24-43 North Latitude and 84-50-03 West Longitude. In accordance with Section 1.420(i) of the Commission's Rules, we will not accept competing expressions of interest for the use of Channel 239A at Waverly Hall, Georgia, or Channel 281C1 at Greenville, Georgia, or require petitioners to provide equivalent class channels for the use of other interested parties.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Georgia, is amended by removing Channel 239C3 and by adding Channel 281C1 at Greenville, by removing La Grange, Channel 281C1, and by adding Waverly Hall, Channel 239A.

Federal Communications Commission.
John A. Karousos,
Assistant Chief, Audio Division, Media Bureau.

[FR Doc. 03-27824 Filed 11-4-03; 8:45 am]

BILLING CODE 6712-01-P